Title 3—

The President

Proclamation 10645 of October 6, 2023

Fire Prevention Week, 2023

By the President of the United States of America

A Proclamation

During Fire Prevention Week, my Administration reaffirms our commitment to preventing fires before they happen and mitigating the damage when devastation strikes. We also honor our brave firefighters and first responders, who put their lives at risk to save others and help their communities rebuild from the rubble.

This year, we have already seen tens of thousands of wildfires burn over two million acres to the ground. And climate change will only intensify the threats that wildfires pose. Further, over one thousand Americans and dozens of firefighters have died in fires this year. Whether they are fires that start at home, in parks or neighborhoods, or in forests and the great outdoors, the devastation these fires cause mean far more than numbers can capture—they reflect lives lost; families heartbroken; natural resources wiped out; and homes, businesses, community centers, and so much more destroyed.

That is why my Investing in America Agenda includes the most significant climate investment in history. As part of that agenda, the Bipartisan Infrastructure Law is investing billions of dollars for enhanced drought resilience, early wildfire detection, and post-wildfire restoration and rehabilitation. And with historic funding for green manufacturing, clean energy development, and climate-smart agriculture, the Inflation Reduction Act is putting us on a path to cut America's carbon emissions by at least half by 2030.

My Administration is doing everything we can to make sure firefighters have the resources they need to do their jobs as safely, effectively, and efficiently as possible. I am proud to have increased the Federal firefighter minimum wage to $15 an hour—a critical first step in giving these heroes the pay, respect, and dignity they deserve. We have also created new programs to improve recruitment, retention, and professional opportunities for Federal firefighters. In addition, we have increased Federal funding for local fire departments to hire more firefighters and expanded Federal grant programs to pay for hundreds of emergency response vehicles and thousands of sets of turnout gear.

In times of tragedy, we so often find the most profound stories of hope and heroism. Across the country, the First Lady and I have been amazed by the courage and strength of those we have seen reestablishing their lives in the aftermath of devastating fires—neighbors helping neighbors, communities coming together, and people from all walks of life working with one another to rebuild what has been lost, making our Nation more resilient. We remain focused on the recovery and rebuilding efforts in Maui, where the First Lady and I visited in August to demonstrate our support for the community. To the people of Maui, who have shown such courage—this Nation stands with you.

This week, we also encourage Americans to take the time to educate themselves on fire prevention and safety. This year's Fire Prevention Week theme—“Cooking safety starts with YOU. Pay attention to fire prevention”—emphasizes the simple actions we can all take to remain safe while preparing food. That includes: being alert while cooking and turning the stove off if leaving the kitchen is necessary; keeping anything that can catch fire away from stovetops; turning pot handles toward the back of the stove; and keeping a lid nearby.

This Fire Prevention Week, let us honor those we have lost in these catastrophes, remain vigilant to prevent future fires from occurring, vow to support those who rush into danger to help us in times of need, and recommit to spreading awareness about the importance of fire safety.

NOW, THEREFORE, I, JOSEPH R. BIDEN JR., President of the United States of America, by virtue of the authority vested in me by the Constitution and the laws of the United States, do hereby proclaim October 8 through October 14, 2023, as Fire Prevention Week. I call on all Americans to participate in this observance with appropriate programs and activities and by renewing their efforts to prevent fires and their tragic consequences.

IN WITNESS WHEREOF, I have hereunto set my hand this sixth day of October, in the year of our Lord two thousand twenty-three, and of the Independence of the United States of America the two hundred and forty-eighth.

[FR Doc. 2023-22663

Filed 10-11-23; 8:45 am]

Billing code 3395-F4-P